NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: May 18, 2009; 1 p.m. to 5:45 p.m. (EST). May 19, 2009; 8 a.m. to 12 p.m. (EST).

Place: National Science Foundation, 4201 Wilson Boulevard, Stafford I, Room 1235.

Type of Meeting: Open.

Contact Person: Joan Miller, National Science Foundation, 4201 Wilson Boulevard, Arlington, VA 22230; (703) 292-8200.

Purpose of Meeting: To provide advice concerning issues related to the oversight, integrity, development and enhancement of NSF's business operations.

Agenda

May 18, 2010

Welcome/Introductions; OIRM/CIO/BFA Updates; Post Award/Policy Updates; Performance Evaluation Assessment; Open Government Initiative; NSF Workforce Management/Leadership Development.

May 19, 2010

NSF Strategic Plan Update—2010-2015; Future NSF-2013 Lease Expiration; Committee Discussion: Prepare for Meeting with NSF Deputy Director; Discussion with Deputy Director; Closing Committee Discussion/Wrap-Up.

Dated: April 21, 2010.
Susanne Bolton,
Committee Management Officer.

[FR Doc. 2010-9554 Filed 4-23-10; 8:45 am]

BILLING CODE 7555-01-P